ENVIRONMENTAL PROTECTION AGENCY

[EPA-HQ-OPP-2009-0332; FRL-8879-6]

Methyl Parathion; Rescission of Previously Issued Cancellation Orders and Issuance of Revised Cancellation Orders for Certain Pesticide Registrations

AGENCY: Environmental Protection Agency (EPA).

ACTION: Notice.

SUMMARY: This notice announces EPA's rescission of two previously issued cancellation orders, and the issuance of a revised cancellation order, pursuant to a voluntary request by the registrant and accepted by the Agency, of products containing methyl parathion, pursuant to section 6(f)(1) of the Federal Insecticide, Fungicide, and Rodenticide Act (FIFRA), as amended. Specifically, this notice rescinds two previously issued Cancellation Orders, a February 25, 2011 Federal Register Notice and a March 23, 2011 Federal Register Notice to the extent they are applicable to methyl parathion products because the orders did not correctly reflect the terms and conditions of the registrant's 6(f)(1) voluntary cancellation request with respect to the effective date as well as conditions governing the disposition of existing stocks for the affected methyl parathion products. This revised order correctly identifies the effective date of cancellation for the affected product registrations as well as the corrected dates associated with the disposition of existing stocks. These are the last products containing methyl parathion registered for use in the United States. The rescission and revised order only applies to methyl parathion registrations. All other product registrations for all other chemicals that were included in the above mentioned cancellation orders and are not rescinded or otherwise affected by this action.

DATES: The methyl parathion cancellations are effective December 31, 2012.

FOR FURTHER INFORMATION CONTACT: Kelly Ballard, Pesticide Re-evaluation Division (7508P), Office of Pesticide Programs, Environmental Protection Agency, 1200 Pennsylvania Ave., NW., Washington, DC 20460-0001; telephone number: (703) 305-8126; fax number: (703) 305-5290; e-mail address: ballard.kelly@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-0332. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the Agency taking?

EPA is rescinding two previously issued Cancellation Orders, a February 25, 2011 Federal Register Notice (76 FR 10587) (FRL-8663-4) and a March 23, 2011 Federal Register Notice (76 FR 16419) (FRL-8667-8) to the extent they are applicable to methyl parathion products because the orders did not correctly reflect the terms and conditions of the registrant's 6(f)(1) voluntary cancellation request with respect to the effective date as well as conditions governing the disposition of existing stocks for the affected methyl parathion products. EPA is also hereby issuing a corrected order identifying the correct effective date of cancellation for the affected product registrations as well as the corrected dates associated with the disposition of existing stocks.

The cancellation orders for methyl parathion products, issued in the Federal Register on February 25, 2011 and March 23, 2011 are rescinded. The rescission only applies to methyl parathion registrations. The above mentioned cancellation orders remain in full force and effect with respect to all other product registrations and chemicals contained in those cancellation orders. This notice also announces the issuance of a cancellation order, as requested by a registrant, of methyl parathion products registered under section 24(c) Special Local Needs (SLN). The affected registrations are listed in sequence by registration number in Table 1 of this unit.

Table 1—Methyl Parathion Product Cancellations
EPA registration No. | Product name
AL000001 | PENNCAP-M Microencapsulated Insecticide.
AR000006 | PENNCAP-M Microencapsulated Insecticide.
CA000001 | PENNCAP-M Microencapsulated Insecticide.
LA040013 | PENNCAP-M Microencapsulated Insecticide.
LA090005 | PENNCAP-M Microencapsulated Insecticide.
MS000009 | PENNCAP-M Microencapsulated Insecticide.
TX990012 | PENNCAP-M Microencapsulated Insecticide.

Table 2 of this unit includes the names and addresses of record for all registrants of the products in Table 1 of this unit, in sequence by EPA company number. This number corresponds to the first part of the EPA registration numbers of the products listed above.

Table 2—Registrant of Cancelled Products
EPA company No. | Company name and address
70506 | United Phosphorus, Inc., 630 Freedom Business Center, Suite 402, King of Prussia, PA 19406.

III. Cancellation Order

Pursuant to FIFRA section 6(f), EPA hereby approves the cancellations of methyl parathion registrations identified in Table 1 of Unit II, as originally requested by the registrant. Accordingly, the Agency hereby orders that the product registrations identified in Table 1 of Unit II are canceled. The effective date of the methyl parathion cancellations that are subject of this cancellation order is December 31, 2012. Any distribution, sale, or use of existing stocks of the products identified in Table 1 of Unit II in a manner inconsistent with any of the provisions for disposition of existing stocks set forth in Unit V will be a violation of FIFRA.

IV. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notices of receipts for this action were published for comment on September 22, 2010 (75 FR 57787) (FRL-8846-2) and January 26, 2011 (76 FR 4692) (FRL-8856-9). The comment periods closed on October 22, 2010 and February 25, 2011, respectively. No comments were received from either notice. However, EPA mistakenly issued a cancellation order with respect to the product listed in Table 1 that was inconsistent with the terms and conditions of the registrant's request. EPA is therefore rescinding its earlier cancellation order with respect to these methyl parathion products and issuing a corrected cancellation order.

V. Provisions for Disposition of Existing Stocks

Existing stocks are those stocks of registered pesticide products which are currently in the United States and which were packaged, labeled, and released for shipment prior to the effective date of the action. The existing stocks provision for the products subject to this order is as follows.

Registrants are prohibited from selling and distributing end-use products as of December 31, 2012. Persons other than the registrants are prohibited from selling or distributing end-use products as of August 31, 2013. All sales and distributions of end-use products shall be prohibited as of August 31, 2013, except for exports consistent with section 17 of FIFRA or for proper disposal. Additionally, all use of existing stocks of the end-use products shall be prohibited as of December 31, 2013.

List of Subjects

Environmental protection, Pesticides and pests.

Dated: June 30, 2011.
Richard P. Keigwin, Jr.,
Director, Pesticide Re-evaluation Division, Office of Pesticide Programs.

[FR Doc. 2011-17354 Filed 7-8-11; 8:45 am]

BILLING CODE 6560-50-P